DEPARTMENT OF THE INTERIOR

Bureau of Land Management

[NM-030-1910-00; NMNM35829]

Legal Description for McGregor Range Withdrawal; New Mexico

AGENCY: Bureau of Land Management (BLM), Interior.

ACTION: Notice.

SUMMARY: This notice provides official publication of the legal description for the McGregor Range Withdrawal in New Mexico, as required by Section 3012(a)(1) of the Military Lands Withdrawal Act of 1999 (Public Law 106-65), enacted October 5, 1999. This withdrawal covers the same public land as was withdrawn previously under Public Law 99-606, which was enacted on November 6, 1986.

FOR FURTHER INFORMATION CONTACT: Tom Phillips, Team Leader, at (505) 525-4377 or Amy Lueders, Field Manager at (505) 525-4311, BLM Las Cruces Field Office, 1800 Marquess, Las Cruces, New Mexico 88005.

SUPPLEMENTARY INFORMATION: The public land withdrawn under Public Law 106-65 encompasses approximately 608,385 acres in Otero County, New Mexico. This land is accurately described under a previous Federal Register dated Wednesday, May 20, 1987 (Vol. 52, No. 97, pages 18960 through 18963) and Federal Register Correction Notices dated Friday, June 12, 1987 (Vol. 52, No. 113, page 22577) and Monday, July 13, 1987 (Vol. 52, No. 133, pages 26188 through 26189).

Dated: April 23, 2001.
Amy L. Lueders,
Field Manager, Las Cruces.

[FR Doc. 01-12153 Filed 5-14-01; 8:45 am]

BILLING CODE 4310-VC-M